DEPARTMENT OF DEFENSE

Department of the Army, Corps of Engineers

Availability of the Finding of No Significant Impact for the Lease of 22 Recreation Areas at Lake Oahe, Lake Francis Case, and Lewis and Clark Lake to the State of South Dakota

AGENCY: U.S. Army Corps of Engineers, DoD.

ACTION: Notice of availability.

SUMMARY: In accordance with the National Environmental Policy Act and implementing regulations, an Environmental Assessment (EA) has been prepared to evaluate the environmental impacts of a request by the State of South Dakota (State) to lease several recreation areas at Lake Oahe, Lake Francis Case, and Lewis and Clark Lake in South Dakota. The Omaha District, Corps of Engineers (Corps) proposes to issue a lease for 22 recreation areas to the State until they are transferred to the State pursuant to Section 225 of the Water Resources Development Act (WRDA) of 1999, Public Law 106-53 (Title VI), as amended by WRDA 2000.

FOR FURTHER INFORMATION CONTACT: Questions regarding the EA can be addressed to Patsy Freeman, U.S. Army Corps of Engineers, 215 North 17th Street, Omaha, Nebraska 68102-4978, telephone at (402) 221-3803, or E-Mail patricia.l.freeman@usace.army.mil.

SUPPLEMENTARY INFORMATION: The State has requested that the Government enter into a lease in order for the State to provide for the repair, maintenance, management, and operation of the recreation areas that will be transferred to the State under Title VI of Public Law 106-53. This EA evaluates the lease action and respective activities that are proposed at the 22 recreation areas and their expected environmental impacts.

The alternatives evaluated consisted of either leasing the 22 recreation areas to the State or denying the lease request (No Federal Action). Improvements proposed for several of the recreation areas are evaluated in detail. Under the no action alternative, the operation of the facilities would remain under the management of the Corps until the transfer occurred (January 2002), with the Corps responsible for all operations and maintenance.

The EA and comments received from the public and other agencies have been used to determine whether the proposed action requires the preparation of an Environmental Impact Statement (EIS). Adverse effects of this action were deemed not to be significant. No adverse effects to federally listed threatened and endangered species are expected as a result of the proposed project. Conditions have been agreed upon by the Corps, the U.S. Fish and Wildlife Service, and the State that will reduce any potential effects. No historic properties would be adversely affected. The South Dakota State Historic Preservation Officer concurred with this determination, and all Missouri River Indian Tribes with an interest in the proposed action were given an opportunity to provide input on the preliminary finding. No Tribes objected or refuted the conclusions. No known sites involving the Native American Graves Protection and Repatriation Act (NAGPRA) are located on the sites proposed to be leased where proposed activities are to occur. All other environmental effects identified would be temporary and not significant.

The majority of comments received by the public and Native American Tribes relate to perceived violation of treaties. Although Tribes are concerned that the lease of lands to the State would provide in essence an interest in the lands, the land would stay in Federal ownership throughout the short term of the lease, and activities thereon would be subject to Federal environmental and cultural protection laws.

The cumulative effects of reasonably foreseeable future actions without the leases were assessed, including proposed urban development, land transfers, habitat mitigation, bank stabilization, recreation development, and future development on Tribal lands. The with and without lease future conditions would be the same. Therefore, the incremental cumulative impact of the proposed activities under the lease is not significant.

It is my finding that the proposed action will not have a significant adverse effect on the environment and will not constitute a major Federal action significantly affecting the quality of the human environment. Therefore, an Environmental Impact Statement will not be prepared.

Gregory D. Showalter,
Army Federal Register Liaison Officer.

[FR Doc. 01-2776 Filed 2-1-01; 8:45 am]

BILLING CODE 3710-62-P